DEPARTMENT OF DEFENSE

Office of the Secretary

[Transmittal No. 21-0D]

Arms Sales Notification

AGENCY: Defense Security Cooperation Agency, Department of Defense (DoD).

ACTION: Arms sales notice.

SUMMARY: The Department of Defense is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives, Transmittal 21-0D with attached Policy Justification.

Dated: February 25, 2022.
Aaron T. Siegel,
Alternate OSD Federal Register Liaison Officer, Department of Defense.

BILLING CODE 5001-06-P

BILLING CODE 5001-06-C

Transmittal No. 21-0D

REPORT OF ENHANCEMENT OR UPGRADE OF SENSITIVITY OF TECHNOLOGY OR CAPABILITY (SEC. 36(B)(5)(C), AECA)

(i) Purchaser: Government of Finland

(ii) Sec. 36(b)(1), AECA Transmittal No.: 20-66

Date: October 9, 2020.

Military Department: Air Force.

(iii) Description: On October 9, 2020, Congress was notified by Congressional certification transmittal number 20-66 of the possible sale, under Section 36(b)(1) of the Arms Export Control Act, of sixty-four (64) F-35 Joint Strike Fighter CTOL aircraft; sixty-six (66) Pratt & Whitney F-135 engines (64 installed and 2 spares); five hundred (500) GBU-53/B Small Diameter Bomb II (SDB II) All-Up Round (AUR); twelve (12) GBU-53/B SDB II Guided Test Vehicles (GTV); twelve (12) GBU-53/B SDB II Captive Carry Vehicles (CCV); one hundred fifty (150) Sidewinder AIM-9X Block II+ (Plus) Tactical Missiles; thirty-two (32) Sidewinder AIM-9X Block II+ (Plus) Captive Air Training Missiles (CATMs); thirty (30) AIM-9X Block II+ (Plus) Sidewinder Tactical Guidance Units; eight (8) AIM-9X Block II Sidewinder CATM Guidance Units; one hundred (100) AGM-154C-1 Joint Stand Off Weapon (JSOW-C1) Tactical Missiles; two hundred (200) Joint Air-to-Surface Standoff Missile-Extended Range (JASSM-ER) AGM-158B-2 Missiles; two (2) AGM-158B-2 JASSM-ER Separation Test Vehicles; two (2) AGM-158B-2 JASSM-ER Instrumented Test Vehicles; two (2) AGM-158B-2 JASSM-ER Jettison Test Vehicles; two (2) AGM-158B-2 Inert JASSM w/Intelligent Telemetry Instrumentation Kits; two (2) AGM-158 Dummy Air Training Missiles; one hundred twenty (120) KMU-556 JDAM Guidance Kits for GBU-31; three hundred (300) FMU-139D/B Fuzes; two (2) KMU-556(D-2)/B Trainer JDAM Guidance Kits for GBU-31; thirty (30) KMU-557 JDAM Guidance Kits for GBU-31; one hundred fifty (150) KMU-572 JDAM Guidance Kits for GBU-38/54; one hundred twenty (120) BLU-117, General Purpose Bombs; thirty-two (32) BLU-109, General Purpose Bomb; one hundred fifty (150) BLU-111, General Purpose Bomb; six (6) MK-82, Inert Bomb; one (1) FMU-139D/B (D-1) Inert Fuze. Also included were Electronic Warfare Systems; Command, Control, Communications, Computer and Intelligence/Communications, Navigational, and Identification (C4I/CNI); Autonomic Logistics Global Support System (ALGS); Operational Data Integrated Network (ODIN); Air System Training Devices; Weapons Employment Capability and other Subsystems, Features, and Capabilities; F-35 unique infrared flares; reprogramming center access; F-35 Performance Based Logistics; software development/integration; aircraft ferry and tanker support; Detector Laser DSU-38A/B, Detector Laser DSU-38A(D-2)/B, KMU-572(D-2)/B Trainer (JDAM), 40 inch Wing Release Lanyard; GBU-53/B SDB II Weapon Load Crew Trainers (WLCT); GBU-53/B SDB II Practical Explosive Ordnance Disposal System Trainers (PEST); AGM-154C-1 JSOW Captive Flight Vehicles; AGM-154C-1 JSOW Dummy Air Training Missiles; AGM-154C-1 JSOW mission planning, integration support and testing, munitions storage security and training, weapon operational flight program software development; integration of the Joint Strike Missile; weapons containers; aircraft and munitions support and test equipment; communications equipment; provisioning, spares and repair parts; weapons repair and return support; personnel training and training equipment; weapon systems software, publications and technical documents; U.S. Government and contractor engineering, technical, and logistics support services; and other related elements of logistical and program support. The estimated total cost was $12.5 billion. Major Defense Equipment (MDE) constituted $8.4 billion of this total.

(iv) This transmittal reports the inclusion of the following additional MDE items: Fifty (50) Sidewinder AIM-9X Block II+ (Plus) tactical missiles; six hundred (600) AIM-120C-8 Advanced Medium Range Air-to-Air Missiles (AMRAAM); up to twelve (12) AMRAAM Guidance Sections (spares); one thousand five hundred (1,500) GBU-39 Small Diameter Bomb Increment 1 (SDB I) munitions; two (2) GBU-39 (T-1)/B inert practice bombs; three hundred (300) FMU-139D/B fuzes; twenty (20) KMU-557 JDAM Guidance Kits for GBU-31; two hundred seventy-five (275) KMU-572 JDAM Guidance Kits for GBU-38/54; twenty (20) BLU-109, general purpose bombs; and two hundred seventy-five (275) BLU-111, general purpose bombs. The following non-MDE items will also be included: AMRAAM Control Sections; AMRAAM Captive Air Training Missiles (CATMs); GBU-39 Tactical Training Rounds; containers; weapon system support equipment; support and test equipment; site surveys; spare and repair parts; repair and return support; publications and technical data; maintenance and aircrew training; and other related elements of logistics support.

The total cost of the new MDE articles is $1.5 billion, and the total cost of the new non-MDE articles is $80 million. The total notified cost of MDE will increase to $9.9 billion, and the total notified case value will increase to $14.08 billion.

(v) Significance: This notification is being provided to report the inclusion of MDE and non-MDE articles and services not previously notified. Their inclusion represents an increase in capability over what was originally notified. Finland requested the additional munitions as potential requirements for operational usage during the life of the proposed F-35 program.

(vi) Justification: This proposed sale will support the foreign policy and national security of the United States by improving the security of a trusted partner which is an important force for political stability and economic progress in Europe. It is vital to the U.S. national interest to assist Finland in developing and maintaining a strong and ready self-defense capability.

(vii) Sensitivity of Technology: The AIM-120C-8 Advanced Medium Range Air-to-Air Missile (AMRAAM) is a supersonic, air-launched, aerial intercept, guided missile featuring digital technology and micro-miniature solid-state electronics. The potential sale will include AMRAAM Guidance Sections. AMRAAM capabilities include look-down/shoot-down, multiple launches against multiple targets, resistance to electronic countermeasures, and interception of high- and low-flying and maneuvering targets. The AIM-120C-8 is a form, fit, function refresh of the AIM-120C-7 and is the next generation to be produced.

The GBU-39 Small Diameter Bomb Increment 1 (SDB I) is a 250-pound GPS-aided inertial navigation system, small autonomous, day or night, adverse weather, conventional, air-to-ground precision glide weapon able to strike fixed and stationary re-locatable non-hardened targets from standoff ranges. It is intended to provide aircraft with an ability to carry a high number of bombs. Aircraft are able to carry four SDB I's in place of one 2,000-pound bomb. The SDB I GBU-39 (T-1)/B Inert Practice Bombs and GBU-39/B Tactical Training Round (TTR) are SDB I configurations with an inert fill used testing of the SDB I weapon system and flight training, respectively.

The Sensitivity of Technology Statement contained in the original notification applies to the other items reported here. The highest level of classification of information included in this potential sale is SECRET.

(viii) Date Report Delivered to Congress: March 19, 2021.

[FR Doc. 2022-04481 Filed 3-2-22; 8:45 am]

BILLING CODE 5001-06-P